DEPARTMENT OF COMMERCE

International Trade Administration

A-533-808

Stainless Steel Wire Rod From India: Amended Final Results of Antidumping Duty Administrative Review

AGENCY: Import Administration, International Trade Administration, Department of Commerce.

SUMMARY: On July 13, 2005, the Department of Commerce published in the Federal Register the final results of the administrative review of the antidumping duty order on stainless steel wire rod from India. The period of review is December 1, 2002, through November 30, 2003. Based on the correction of a ministerial error, we have changed the antidumping margin for Isibars Limited, and we are amending our final results accordingly.

FOR FURTHER INFORMATION CONTACT: Jeffrey Frank at (202) 482-0090 or Minoo Hatten at (202) 482-1690, AD/CVD Operations, Office 5, Import Administration, International Trade Administration, U.S. Department of Commerce, 14th Street and Constitution Avenue, NW, Washington, DC 20230.

SUPPLEMENTARY INFORMATION:

Background

On July 13, 2005, the Department of Commerce published in the Federal Register the final results of the administrative review of the antidumping duty order on stainless steel wire rod (SSWR) from India. See Stainless Steel Wire Rod From India: Final Results of Antidumping Duty Administrative Review and Determination to Revoke Order in Part, 70 FR 40318 (July 13, 2005).

On July 19, 2005, we received a timely ministerial-error allegation from Carpenter Technology Corporation (the petitioner) with respect to Isibars Limited (Isibars). Specifically, the petitioner argued that, in our margin calculation, we did not distinguish sales of prime merchandise from sales of secondary merchandise for matching purposes and, as a result, incorrectly matched prime merchandise sold in the United States with secondary merchandise sold in India. Isibars did not comment on this issue.

It is our practice to distinguish between prime and secondary merchandise. See Certain Cold-Rolled and Corrosion-Resistant Carbon Steel Flat Products From Korea: Final Results of Antidumping Duty Administrative Reviews, 65 FR 13359 (March 13, 2000) and accompanying Issues and Decision Memorandum at Comment 19. See also Certain Corrosion-Resistant Carbon Steel Flat Products From Canada: Final Results of Antidumping Duty Administrative Review, 69 FR 2566 (January 16, 2004) and accompanying Issues and Decision Memorandum at Comment 8. Therefore, we agree with the petitioner's allegation and have made the appropriate changes to our calculation. See “Amended Final Analysis Memorandum of Isibars Limited for Stainless Steel Wire Rod from India Adm. Rev. 12/1/02 - 11/30/03” dated July 29, 2005.

Amended Final Results of Review

As a result of the correction of the ministerial error, the weighted-average margin for Isibars for the period December 1, 2002, through November 30, 2003, has changed from 27.20 percent to 30.10 percent.

Cash-Deposit Requirements

The following deposit requirements will be effective upon publication of these amended final results of administrative review for all shipments of SSWR from India entered, or withdrawn from warehouse, for consumption on or after the publication date of these amended final results, as provided by section 751(a)(2)(C) of the Tariff Act of 1930, as amended (the Act): (1) The cash-deposit rate for Isibars will be 30.10 percent; (2) for merchandise exported by other producers or exporters that were reviewed or investigated previously, the cash-deposit rate will continue to be the most recent rate published in the final determination or final results for which the producer or exporter received an individual rate; (3) if the exporter is not a firm covered in this review, a prior review, or the original less-than-fair-value (LTFV) investigation but the manufacturer is, the cash-deposit rate will be the rate established for the most recent period for the manufacturer of the subject merchandise; and (4) if neither the exporter nor the manufacturer is a firm covered in this or any previous review, the cash-deposit rate shall be 48.80 percent, the all-others rate established in the LTFV investigation. See Final Determination of Sales at Less Than Fair Value: Certain Stainless Steel Wire Rods from India, 58 FR 54110 (October 20, 1993). These deposit requirements shall remain in effect until the publication of the final results of the next administrative review.

Duty Assessment

In accordance with 19 CFR 351.212(b)(1), we will direct U.S. Customs and Border Protection to assess the resulting per-unit dollar amount against each unit of merchandise entered or withdrawn from warehouse for consumption during the review period. We will issue the liquidation instructions within 15 days of publication of these amended final results of review.

We are issuing and publishing these results and notice in accordance with sections 751(a)(1) and (h) and 777(i) of the Act and 19 CFR 351.224(e).

Dated: August 5, 2005.
Joseph A. Spetrini,
Acting Assistant Secretary for Import Administration.

[FR Doc. 05-16050 Filed 8-11-05; 8:45 am]

BILLING CODE 3510-DS-S